EQUAL EMPLOYMENT OPPORTUNITY COMMISSION

Agency Information Collection Activities: Extension Without Change of an Existing Collection; Comment Request

AGENCY: Equal Employment Opportunity Commission.

ACTION: Notice of information collection; extension without change.

SUMMARY: In accordance with the Paperwork Reduction Act of 1995, the Equal Employment Opportunity Commission (EEOC or Commission) announces that it intends to submit to the Office of Management and Budget (OMB) a request for a three-year extension without change of the information collection described below.

DATES: Written comments on this notice must be submitted on or before December 30, 2024.

ADDRESSES: You may submit comments by any of the following methods; please use only one method:

Federal eRulemaking Portal: https://www.regulations.gov. Follow the instructions on the website for submitting comments.

Mail: Comments may be submitted by mail to Raymond Windmiller, Executive Officer, Executive Secretariat, Equal Employment Opportunity Commission, 131 M Street NE, Washington, DC 20507.

Fax: Comments totaling six or fewer pages may be sent by fax machine to (202) 663-4114. Receipt of fax transmittals will not be acknowledged, except that the sender may request confirmation of receipt by calling the Executive Secretariat staff at (202) 921-2815 (voice), (800) 669-6820 (TTY), or (844) 234-5122 (ASL Video Phone).

Instructions: All comments received will be posted without change to https://www.regulations.gov, including any personal information you provide. However, the EEOC reserves the right to refrain from posting libelous or otherwise inappropriate comments, including those that contain obscene, indecent, or profane language; that contain threats or defamatory statements; that contain hate speech directed at race, color, sex, national origin, age, religion, disability, or genetic information; or that promote or endorse services or products.

To read the public comments received by the EEOC, go to https://www.regulations.gov and search for this item. There may be a few days' delay between submission of a comment and public posting on this docket. The received comments also will be available for review on a computer in the Commission's Headquarters library, 131 M Street NE, Suite 4NW08R, Washington, DC 20507, between the hours of 9:00 a.m. and 4:30 p.m. on days the Commission is open for business. You must make an appointment with library staff to review the comments in the Commission's library by contacting 202-921-3119.

FOR FURTHER INFORMATION CONTACT: Kathleen Oram, Assistant Legal Counsel, at (202) 921-2665 or Kathleen.Oram@eeoc.gov. Requests for this notice in an alternative format should be made to the Office of Communications and Legislative Affairs at (202) 921-3191 (voice), (800) 669-6820 (TTY), or (844) 234-5122 (ASL Video Phone).

SUPPLEMENTARY INFORMATION:

Introduction

The Equal Employment Opportunity Commission gives notice of its intent to submit the recordkeeping requirements contained in the Uniform Guidelines on Employee Selection Procedures (UGESP or Uniform Guidelines) ¹ to the Office of Management and Budget for a three-year extension without change under the Paperwork Reduction Act of 1995 (PRA).

¹ 29 CFR, part 1607, 41 CFR part 60-3, 28 CFR part 50, 5 CFR part 300.

Request for Comments

Pursuant to the Paperwork Reduction Act of 1995, 44 U.S.C. Chapter 35, and OMB regulation 5 CFR 1320.8(d)(1), the EEOC invites public comments that will enable the agency to:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques or other forms of information technology, to be collected; e.g., permitting electronic submission of responses.

Overview of Current Information Collection

Collection Title: Recordkeeping Requirements of the Uniform Guidelines on Employee Selection Procedures, 29 CFR part 1607, 41 CFR part 60-3, 28 CFR part 50, 5 CFR part 300.

OMB Number: 3046-0017.

Type of Respondent: Businesses or other institutions; Federal Government; State or local governments and farms.

North American Industry Classification System (NAICS) Code: Multiple.

Standard Industrial Classification Code (SIC): Multiple.

Description of Affected Public: Any employer, Government contractor, labor organization, or employment agency covered by the Federal equal employment opportunity laws.

Respondents: 887,869.

Responses: 887,869.

Recordkeeping Hours: 15,422,941 per year.

Number of Forms: None.

Form Number: None.

Frequency of Report: None.

Abstract: The Uniform Guidelines provide fundamental guidance for all Title VII-covered employers about the use of employment selection procedures. The records addressed by UGESP are used by respondents to ensure that they are complying with Title VII and Executive Order 11246; by the Federal agencies that enforce Title VII and Executive Order 11246 to investigate, conciliate, and litigate charges of employment discrimination; and by complainants to establish violations of Federal equal employment opportunity laws. While there are no data available to quantify these benefits, the collection of accurate applicant flow data enhances each employer's ability to address deficiencies in recruitment and selection processes, including detecting barriers to equal employment opportunity.

Burden Statement: There are no reporting requirements associated with UGESP. The burden being estimated is the cost of collecting and storing a job applicant's gender, race, and ethnicity data.

The only paperwork burden derives from this recordkeeping. Only employers covered under Title VII and Executive Order 11246 are subject to UGESP. However, for the purposes of burden calculation, data for all employers are counted.² The number of employers with 15 or more employees is estimated at 887,869 which combines estimates from private employment,³ the public sector,⁴ colleges and universities,⁵ apprenticeship programs,⁶ and referral unions.⁷ Employers with 15 or more employees represent approximately 13.5% of all employers in the U.S. and employ about 86.2% of all employees in the U.S.⁸

² In calculating burden, data from multiple sources are used. Some of these sources do not allow us to identify only those employers who are covered by Title VII (employers with 15 or more employees).

³ Source of original data: U.S. Census Bureau, 2021 Statistics of U.S. Businesses (SUSB) (Dec. 2023). (https://www.census.gov/data/tables/2021/econ/susb/2021-susb-annual.html). Local Downloadable CSV data. Select U.S. & states, 6-digit NAICS. The original number of employers was adjusted to only include those with 15 or more employees.

⁴ Source of original data: 2022 Census of Governments: Employment. Individual Government Data File (https://www.census.gov/data/datasets/2022/econ/apes/2022.html), Local Downloadable Data zip file “Individual Unit Files”. The original number of government entities was adjusted to only include those with 15 or more employees.

⁵ Source: U.S. Department of Education, National Center for Education Statistics, IPEDS, Fall 2022, Institutional Characteristics component (provisional data). See Table 1, “Number and percentage distribution of Title IV institutions, by control of institution, level of institution, and region: United States and other U.S. jurisdictions, academic year 2022-23” (https://nces.ed.gov/ipeds/search/viewtable?tableId=35945&returnUrl=%2Fsearch).

⁶ Source: U.S. Department of Labor, Registered Apprenticeship National Results Fiscal Year 2021, Number of active apprenticeship programs in 2021 (https://www.dol.gov/agencies/eta/apprenticeship/about/statistics/2021).

⁷ The EEOC has undertaken measures to enhance the agency's existing EEO-3 data frame (i.e., roster) of potentially eligible filers that was most recently used during the 2022 EEO-3 data collection. The number of referral unions was estimated by comparing the EEOC's 2022 EEO-3 frame to a list of active unions from the U.S. Department of Labor's Office of Labor Management Standards (OLMS) Online Public Disclosure Room (OPDR) database (https://olmsapps.dol.gov/olpdr/).

⁸ Source of original data: U.S. Census Bureau, 2021 Statistics of U.S. Businesses (SUSB) (Dec. 2023). (https://www.census.gov/data/tables/2021/econ/susb/2021-susb-annual.html). Local Downloadable CSV data. Select U.S. & states, 6-digit NAICS. The original number of employers was adjusted to only include those with 15 or more employees.

This burden assessment is based on an estimate of the number of job applications submitted to all employers in one year, including paper-based and electronic applications. The total number of job applications submitted every year to covered employers is estimated to be 1,850,752,956 based on an average of approximately 26 applications ⁹ for every hire and a Bureau of Labor Statistics data estimate of 71,046,000 annual hires.¹⁰ This figure also includes 136,806 applicants for union membership reported on the EEO-3 form for 2022.

⁹ The average number of applicants per job opening in 2023, according to the iCIMS 2024 January Workforce Report (https://icims.drift.click/January-2024-Workforce-Report).

¹⁰ Bureau of Labor Statistics Job Openings and Labor Turnover Survey, 2023 annual level data (seasonally adjusted), (http://www.bls.gov/jlt/data.htm) is the source of the original data. The BLS figure includes new hires in both the public and the private sectors across all employer sizes.

The employer burden associated with collecting and storing applicant demographic data is based on the following assumptions: applicants would need to be asked to provide three pieces of information—sex, race/ethnicity, and an identification number (a total of approximately 13 keystrokes); the employer may need to transfer information received to a database either manually or electronically; and the employer would need to store the 13 characters of information for each applicant. Recordkeeping costs and burden are assumed to be the time cost associated with entering 13 keystrokes.

Assuming that the required recordkeeping takes 30 seconds per record, and assuming a total of 1,850,752,956 paper and electronic applications per year (as calculated above), the resulting UGESP burden hours would be 15,422,941. Based on a wage rate of $22.94 ¹¹ per hour for the individuals entering the data, the collection and storage of applicant demographic data would come to approximately $353,802,267 per year. The foregoing assumptions likely are over-inclusive because many employers have electronic job application processes that should be able to capture applicant flow data automatically.

¹¹ Burden hour cost estimates are based on the median hourly wage rate of $22.94 for Human Resources Assistants, except payroll and timekeeping obtained from the Bureau of Labor Statistics, May 2023 (see U.S. p of Labor, Bureau of Labor Statistics, Occupational Employment and Wage Statistics, https://www.bls.gov/oes/current/oes434161.htm).

While the burden hours and costs for the UGESP recordkeeping requirement seem large, the average burden per employer is relatively small. UGESP applies to an estimated 887,869 employers, or about 13.5% of employers in the U.S., and these employers employ about 86.2% of employees in the U.S.¹² Therefore, the estimated cost per covered employer is about $398. Additionally, 36.4% of employees work for firms with at least 5,000 employees,¹³ for which the burden of data entry is transferred to the applicants via use of electronic application systems. Finally, UGESP allows for simplified recordkeeping for employers with more than 15 but less than 100 employees.¹⁴

¹² Source of original data: U.S. Census Bureau, 2021 Statistics of U.S. Businesses (SUSB) (Dec. 2023). (https://www.census.gov/data/tables/2021/econ/susb/2021-susb-annual.html). Local Downloadable CSV data. Select U.S. & states, 6-digit NAICS. The original number of employers was adjusted to only include those with 15 or more employees.

¹³ Source of original data: 2021 Economic Census. (https://www.census.gov/data/tables/2021/econ/susb/2021-susb-annual.html). Local Downloadable CSV data. Select U.S. & states, 6-digit NAICS. The original number of employers was adjusted to only include those with 15 or more employees.

¹⁴ See 29 CFR 1607.15A(1): Simplified recordkeeping for users with less than 100 employees. In order to minimize recordkeeping burdens on employers who employ one hundred (100) or fewer employees, and other users not required to file EEO-1, et seq., reports, such users may satisfy the requirements of this section 15 if they maintain and have available records showing, for each year: (a) The number of persons hired, promoted, and terminated for each job, by sex, and where appropriate by race and national origin; (b)The number of applicants for hire and promotion by sex and where appropriate by race and national origin; and (c) The selection procedures utilized (either standardized or not standardized).

For the Commission.
Dated: October 23, 2024.
Charlotte A. Burrows,
Chair.

[FR Doc. 2024-25087 Filed 10-28-24; 8:45 am]

BILLING CODE 6570-01-P